DEPARTMENT OF ENERGY

Federal Energy Regulatory Commission

[Docket No. EC05-33-000, et al.]

USGen New England, Inc., et al.; Electric Rate and Corporate Filings

January 7, 2005.

The following filings have been made with the Commission. The filings are listed in ascending order within each docket classification.

1. USGen New England, Inc., Dominion Energy New England, Inc., and Dominion Energy Marketing, Inc.

[Docket No. EC05-33-000]

Take notice that on December 30, 2004, U.S.Gen New England, Inc. (USGen NE), Dominion Energy New England, Inc. and Dominion Energy Marketing Inc. submitted an application pursuant to section 203 of the Federal Power Act seeking authorization for USGen New England, Inc. to transfer certain wholesale power sales agreements to Dominion Energy Marketing, Inc.

Comment Date: 5 p.m. eastern time on January 21, 2005.

2. City of Anaheim, California

[Docket No. EL05-33-001]

Take notice that on December 30, 2004, the City of Anaheim, California (Anaheim) submitted corrections to its transmission revenue balancing account adjustment and to Appendix I of its transmission owner tariff filed in Docket No. EL05-33-000 on December 1, 2004. Anaheim requests an effective date of January 1, 2005.

Comment Date: 5 p.m. eastern time on January 14, 2005.

3. Atlantic City Electric Company, Potomac Electric Power Company, Delmarva Power & Light Company, Pepco Energy Services, Inc., Potomac Power Resources, LLC, Conectiv Energy Supply, Inc., Conectiv Atlantic Generation, LLC, Conectiv Delmarva Generation, Inc., Conectiv Bethlehem, LLC, Fauquier Landfill Gas, LLC, and Rolling Hills Landfill, LLC

[Docket Nos. ER96-1361-007, ER98-4138-003, ER99-2781-005, ER98-3096-009, ER01-202-002, ER00-1770-008, ER02-453-004, ER04-472-001, and ER04-529-001]

Take notice that on December 23, 2004, Atlantic City Electric Company, Potomac Electric Company, Delmarva Power & Light Company, Pepco Energy Services, Inc., Potomac Power Resources, LLC, Conectiv Energy Supply, Inc., Conectiv Atlantic Generation, LLC, Conectiv Delmarva Generation, Inc., Conectiv Bethlehem, LLC, Fauquier Landfill Gas, LLC and Rolling Hills Landfill Gas, LLC submitted their triennial market power analysis pursuant to the Commission's order in Arcadia Power Partners, LLC, 107 FERC ¶ 61,168 (2004).

Comment Date: 5 p.m. eastern time on January 14, 2005.

4. Southern Company Energy Marketing L.P. and Southern Company Services, Inc.

[Docket Nos. ER97-4166-017 and ER96-780-007]

Take notice that on December 30, 2004, Southern Company Services, Inc., acting as agent for Alabama Power Company, Georgia Power Company, Gulf Power Company, Mississippi Power Company, Savannah Electric and Power Company and Southern Power Company submitted a compliance filing pursuant to the Commission's Order issued December 17, 2004, in Docket No. ER97-4166-015, et al., 109 FERC ¶ 61,275 (2004).

Comment Date: 5 p.m. eastern time on January 21, 2005.

5. J. Aron & Company and Power Receivable Finance, LLC

[Docket Nos. ER02-237-002 and ER03-1151-002]

Take notice that on December 30, 2004, J. Aron & Company and Power Receivable Finance, LLC (together, Applicants) filed a consolidated triennial updated market analysis.

Comment Date: 5 p.m. eastern time on January 21, 2005.

Applicants state that copies of the filing were served on the parties on the service lists in these proceedings.

6. ISO New England Inc.

[Docket No. ER02-2330-033]

Take notice that on December 30, 2004, ISO New England Inc. (ISO) submitted an Independent Assessment of Demand Response Programs as directed by the Commission in its Order issued June 6, 2003, in Docket No. ER02-2330-004, et al., 103 FERC ¶ 61,304.

The ISO states that copies of the filing have been served on all parties in Docket No. ER02-2330.

Comment Date: 5 p.m. eastern time on January 21, 2005.

7. New England Power Pool and ISO New England Inc.

[Docket No. ER02-2330-034]

Take notice that on December 30, 2004, ISO New England Inc. (ISO) submitted a Status Report on Development of Day-Ahead Load Response Program as directed by the Commission in its November 17, 2003, Order in Docket No. ER02-2330-015, et al., 105 FERC ¶ 61,211.

The ISO states that copies of the filing have been served on all parties in Docket No. ER02-2330.

Comment Date: 5 p.m. eastern time on January 21, 2005.

8. FirstEnergy Service Company

[Docket No. ER03-1276-003]

Take notice that on December 30, 2004, FirstEnergy Service Company (FirstEnergy) filed revised Notices of Cancellation of certain service agreements under the Open Access Transmission Tariff of American Transmission Systems, Incorporated, which has transferred operations control over its transmission system to the Midwest Independent Transmission System Operator, Inc. First Energy states that the revised Notices of Cancellation replace the Notices of Cancellation filed on December 21, 2004, in the above-referenced docket.

Comment Date: 5 p.m. eastern time on January 21, 2005.

9. New England Power Pool

[Docket No. ER03-345-004]

Take notice that on December 30, 2004, ISO New England, Inc. (ISO) submitted a Semi-Annual Status Report on Load Response Programs as directed by the Commission in the Order issued February 25, 2003, in Docket Nos. ER01-3086-001 and ER03-345-000, 102 FERC ¶ 61,202.

The ISO states that copies of the filing have been served on all parties to this proceeding.

Comment Date: 5 p.m. eastern time on January 21, 2005.

10. Midwest Independent Transmission System Operator, Inc.

[Docket No. ER03-1312-005]

Take notice that on December 30, 2004, the Midwest Independent Transmission System Operator, Inc. (Midwest ISO) submitted a compliance filing pursuant to the Commission's January 29, 2004 Order in Docket Nos. ER03-1312-000 and 001, 106 FERC ¶ 61,073 (2004). Midwest ISO has requested a March 1, 2005, effective date for the tariff pages submitted in the compliance filing.

The Midwest ISO states that it has electronically served a copy of the filing on all Midwest ISO Members, Member representatives of Transmission Owners and Non-Transmission Owners, the Midwest ISO Advisory Committee participants, and the state commissions within the region. In addition, Midwest ISO states that the filing has been electronically posted on the Midwest ISO's Web site and that it will provide hard copies to any interested party upon request.

Comment Date: 5 p.m. eastern time on January 21, 2005.

11. Midwest Independent Transmission System Operator, Inc. and PJM Interconnection, L.L.C.

[Docket No. ER04-375-017]

Take notice that on December 30, 2004, the Midwest Independent Transmission System Operator, Inc. (Midwest ISO) and PJM Interconnection, L.L.C. (PJM), in compliance with the Commission's order issued March 18, 2004, in Docket No. ER04-375-000, 106 FERC ¶ 61,251, submitted revisions to the Joint Operating Agreement between the Midwest ISO and PJM. The Midwest ISO and PJM request an effective date of March 1, 2005.

The Midwest ISO and PJM state that copies of the filing were served on all persons on the service list in Docket No. ER04-375, all PJM members, and state electric utility regulatory commissions in the PJM regions and, in addition, the filing is available on the Midwest ISO internet site.

Comment Date: 5 p.m. eastern time on January 21, 2005.

12. Southern California Edison Company

[Docket Nos. ER04-1209-001, EL05-29-000, and ER05-410-000]

Take notice that on December 30, 2004, Southern California Edison Company (SCE) submitted proposed revisions to SCE's TO Tariff, FERC Electric Tariff, Second Revised Volume No. 6, Appendix VI, and to certain Existing Transmission Contracts (ETCs), to increase SCE's Reliability Services Revenue Requirement and Reliability Services rates.

SCE states that copies of the filing were served upon SCE's jurisdictional customers, the California Public Utilities Commission, the California Electricity Oversight Board, the California Independent System Operator, Pacific Gas and Electric Company, and the San Diego Gas and Electric Company.

Comment Date: 5 p.m. eastern time on January 21, 2005.

13. PJM Interconnection, L.L.C.

[Docket Nos. ER05-157-001, ER05-158-001, ER05-159-001, ER05-160-001, ER05-161-001, and ER05-162-001]

Take notice that on December 30, 2004, PJM Interconnection, L.L.C. (PJM) submitted its response to the Commission's deficiency letter issued November 30, 2004, in Docket No. ER005-157-000, et al., concerning six service agreements filed by PJM on October 29, 2004.

PJM states that copies of the filing were served on all parties in this proceeding.

Comment Date: 5 p.m. eastern time on January 21, 2005.

14. Illinois Power Company

[Docket No. ER05-173-001]

Take notice that on December 30, 2004, Illinois Power Company filed a request to withdraw its Notice of Withdrawal filed on December 22, 2004 in Docket No. ER05-173-000 and also submitted amended tariff sheets which would permit AmerenIP to sell electric energy at certain times between January 1, 2005, and December 31, 2006, at prices up to a cost-based cap of $30/MWh, the limited amounts of energy that it purchases in excess of its real-time energy needs.

Comment Date: 5 p.m. eastern time on January 21, 2005.

15. PJM Interconnection, L.L.C.

[Docket No. ER05-206-001]

Take notice that on December 30, 2004, PJM Interconnection, L.L.C. (PJM) filed a substitute Construction Service Agreement (CSA) among PJM, FPL Energy Marcus Hook, L.P. and Delmarva Power & Light Company d/b/a Conectiv Power Delivery superseding the CSA filed on November 12, 2004, in Docket No. ER05-206-000. PJM requests an effective date of October 14, 2004.

PJM states that copies of the filing were served on the parties to the agreement and the state regulatory commissions with the PJM region.

Comment Date: 5 p.m. eastern time on January 21, 2005.

16. Alliant Energy Corporate Services, Inc.

[Docket No. ER05-386-000]

Take notice that on December 28, 2004, Interstate Power and Light Company (Interstate) tendered for filing an Amendment Extending Term of Agreement extending the term of a 1980 joint use agreement between Interstate Power and Light Company and Central Iowa Power Cooperative. Interstate requests an effective date of December 31, 2004.

Comment Date: 5 p.m. eastern time on January 18, 2005.

17. Public Service Company of New Mexico

[Docket No. ER05-393-001]

Take notice that on December 30, 2004, Public Service Company of New Mexico (PNM) submitted for filing two separate Certificates of Concurrence with respect to the December 19, 2004 filing of the New Mexico Transmission Operating Procedures and the associated First Revised Restated Letter of Understanding, among El Paso Electric Company (EPE), PNM, Texas-New Mexico Power Company (TNMP) and Tri State Generation and Transmission Association, Inc. (Tri-State).

PNM states that copies of the filing have been provided to EPE, TNMP, Tri-State, the New Mexico Public Regulation Commission, and the New Mexico Attorney General.

Comment Date: 5 p.m. eastern time on January 21, 2005.

18. San Diego Gas & Electric Company

[Docket No. ER05-411-000]

Take notice that on December 28, 2004, San Diego Gas & Electric (SDG&E) tendered for filing a change in rate for the Transmission Revenue Balancing Account Adjustment and its Transmission Access Charge Balancing Account Adjustment as set forth in its Transmission Owner Tariff. SDG&E states that the effect of the rate change is to increase rates for jurisdictional transmission service utilizing that portion of the California Independent System Operator-controlled grid owned by SDG&E. SDG&E requests an effective date of January 1, 2005.

SDG&E states that copies of this filing were served upon the Public Utilities Commission of the State of California and on the California Independent System Operator Corporation.

Comment Date: 5 p.m. eastern time on January 18, 2005.

19. Southwest Power Pool, Inc.

[Docket Nos. RT04-1-008 and ER04-48-008]

Take notice that on December 30, 2004, Southwest Power Pool, Inc. (SPP) filed a timetable detailing the timeframe to remove rate pancaking from Schedule 1 of its Open Access Transmission Tariff, pursuant to the Commission's order issued October 1, 2004, in Docket Nos. RT04-1-001 and ER04-48-001, 109 FERC ¶ 61,010.

SPP states that it has served a copy of the filing on all parties in these proceedings and, in addition, states that a copy of this filing will be posted on the SPP Web site.

Comment Date: 5 p.m. eastern time on January 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-179 Filed 1-18-05; 8:45 am]

BILLING CODE 6717-01-P